POSTAL SERVICE

39 CFR Part 20

New Outbound Commercial Provider Initiative (OCPI) Program Information; Opportunity for Comments; Correction

AGENCY: Postal Service™.

ACTION: Advance notice of proposed rulemaking; invitation to comment; correction.

SUMMARY: The Postal Service published a document in the Federal Register of February 1, 2021, concerning an advance notification of and introduction to the Outbound Commercial Provider Initiative (OCPI) program. This document updates the expected implementation date of the OCPI program and adds an item to the list of examples of products that are not within the scope of the OCPI program.

DATES: February 9, 2021.

FOR FURTHER INFORMATION CONTACT: Frank Cebello, 202-268-8058; or GlobalBusinessOCPI@usps.gov.

ADDRESSES: Due to the current COVID-19 pandemic, comments in response to this document will only be accepted via email—any comments or communications sent via fax or mail will not be accepted.

When sending communication and comments related to the OCPI program, the following instructions and guidelines apply:

• All comments and questions should be sent to the Manager, International Products and Major Accounts, Global Business, at the following email address: ProductClassification@usps.gov.

• Communications must also include the following:

○ Subject Line: OCPI Program Advanced Notice Comments

○ Name of Sender

All submitted comments and attachments are part of the public record and subject to disclosure. Do not enclose any material in your comments that you consider to be confidential or inappropriate for public disclosure.

You may inspect and photocopy all written comments, by appointment only, at USPS® Headquarters Library, 475 L'Enfant Plaza SW, 11th Floor North, Washington, DC 20260. These records are available for review Monday through Friday, 9 a.m. to 4 p.m., by calling 202-268-2906.

SUPPLEMENTARY INFORMATION:

Correction

In the advance notice of proposed rulemaking FR Doc. 2020-28968, beginning on page 7659 of the issue of February 1, 2021, make the following correction in the Supplementary Information section:

1. On page 7659, in the 3rd column, the date in the first sentence in the subsection labeled “Overview” is corrected to read “April 30, 2021”.

2. On page 7660, in the first column, in the paragraph under the subsection labeled “OCPI Program Country-Product Service Enhancements,” the 3rd-from-last sentence is corrected to read “Products such as FCMI letters and Flats, Military Mail, IPA, ISAL, and CeP are not within the scope of the OCPI program.”

Dated: February 3, 2021.
Joshua J. Hofer,
Attorney, Federal Compliance.

[FR Doc. 2021-02602 Filed 2-8-21; 8:45 am]

BILLING CODE P